DEPARTMENT OF COMMERCE

Bureau of the Census

Request for Nominations of Members To Serve on the Census Advisory Committee on the Native Hawaiian and Other Pacific Islander Populations

AGENCY: Bureau of the Census, Commerce.

ACTION: Notice of request for nominations.

SUMMARY: Pursuant to the Federal Advisory Committee Act (5 United States Code (U.S.C.) Appendix 2, section 10(a)(b)), the Bureau of the Census (Census Bureau) requests nominations of individuals to the Census Advisory Committee on the Native Hawaiian and Other Pacific Islander Populations. One seat on this Committee currently is vacant. The Census Bureau will consider nominations received in response to this Request for Nominations, as well as from other sources. The SUPPLEMENTARY INFORMATION section for this notice provides Committee and membership criteria.

DATES: Please submit nominations by January 21, 2003.

ADDRESSES: Please submit nominations to Ms. Jeri Green, Chief, Census Advisory Committees and Special Populations Office, Bureau of the Census, Department of Commerce, Room 3627, Federal Building 3, Washington, DC 20233, or by fax to (301) 457-8608.

FOR FURTHER INFORMATION CONTACT: Ms. Jeri Green, Chief, Census Advisory Committee and Special Populations Office, at the above address or by telephone on (301) 763-2070.

SUPPLEMENTARY INFORMATION: The Committee was established in accordance with the Federal Advisory Committee Act (title 5, U.S.C., Appendix 2) in 1995. The following provides information about the Committee, membership, and nomination process:

Objectives and Duties

1. The Committee provides an organized and continuing channel of communication between Native Hawaiian and Other Pacific Islander communities and the Census Bureau. Committee members identify useful strategies to reduce the differential undercount for the population, and on ways data can be disseminated for maximum usefulness to the Native Hawaiian and Other Pacific Islander Populations.

2. The Committee draws upon its experience with Census 2000 procedures, results of decennial evaluations, research studies, test censuses, and other experiences to provide advice and recommendations on Census 2010 planning, the American Community Survey, and related decennial programs.

3. The Committee functions solely as an advisory body under the Federal Advisory Committee Act.

4. The Committee reports to the Director of the Bureau of the Census.

Membership

1. Members are appointed by and serve at the discretion of the Secretary of Commerce.

2. Members are appointed to the nine-member Committee for a period of three years. Committee members are selected in accordance with applicable Department of Commerce guidelines. The Committee aims to have a balanced representation, considering factors such as geography, gender, ethnicity, expertise, and knowledge of census procedures and activities. The Committee aims to include members from diverse backgrounds, including State, local governments, academia, media, research, community-based organizations, and the private sector. No employee of the Federal government can serve as a member of the Committee. Meeting attendance and active participation in the activities of the Advisory Committee are essential for sustained Committee membership.

Miscellaneous

1. Members of the Committee serve without compensation, but receive reimbursement or Committee-related travel and lodging expenses.

2. The Committee meets at least once a year, but additional meetings may be held as deemed necessary by the Census Director or designated Federal official. All Committee meetings are open to the public in accordance with the Federal Advisory Committee Act.

Nomination Information

1. Nominations are requested as described above.

2. Nominees should have expertise and knowledge of the cultural patterns and issues and/or data needs of Native Hawaiian and Other Pacific Islander communities. Such knowledge and expertise are needed to provide advice and recommendations to the Census Bureau on how best to enumerate the Native Hawaiian and Other Pacific Islander Population and obtain complete and accurate data on this population. Individuals, groups or organizations may submit nominations. A summary of the candidate's qualifications (resumé or curriculum vitae) must be included in the nomination letter. Nominees must have the ability to participate in Advisory Committee meetings and tasks. Besides Committee meetings, active participation may include Committee assignments and participation in conference calls and working groups.

3. The Department of Commerce is committed to equal opportunity in the workplace and seeks diverse Committee membership.

Dated: December 16, 2002.
Charles Louis Kincannon,
Director, Bureau of the Census.

[FR Doc. 02-31938 Filed 12-18-02; 8:45 am]

BILLING CODE 3510-07-P